NUCLEAR REGULATORY COMMISSION

[Docket No. 70-3098-ML; ASLBP No. 01-790-01-ML]

Duke, Cogema, Stone & Webster Savannah River Mixed Oxide Fuel Fabrication Facility; Establishment of Atomic Safety and Licensing Board

Pursuant to delegation by the Commission dated December 29, 1972, published in the Federal Register, 37 FR 28710 (1972); the Commission's Regulations, see 10 CFR 2.1201, 2.1207; and the Commission's Order dated June 14, 2001, CLI-01-13, 53 NRC __ (June 14, 2001), an Atomic Safety and Licensing Board is being established to preside over the following proceeding:

Duke, Cogema, Stone & Webster Savannah River Mixed Oxide Fuel Fabrication Facility

This Board is being established to conduct this proceeding pursuant to an enhanced version of the procedures found in 10 CFR Part 2, Subpart L, of the Commission's Regulations, “Informal Hearing Procedures for Adjudications in Materials and Operator Licensing Proceedings” (CLI-01-13, 53 NRC at __ (slip op. at 1-2)). On February 28, 2001, Duke, Cogema, and Stone & Webster submitted a construction authorization request (CAR) to build a mixed oxide (MOX) fuel fabrication facility, which would be located at the United States Department of Energy's Savannah River site in South Carolina. This proceeding concerns requests for hearing submitted by (1) Georgians Against Nuclear Energy (GANE); (2) Environmentalists, Inc. (EI); (3) Blue Ridge Environmental Defense League (Blue Ridge); and (4) Charles and Edna Foster. The requests were filed in response to a March 7, 2001 notice in the Federal Register announcing receipt of the CAR and a related environmental report (66 FR 13794.) and a notice of opportunity for a hearing published by the Commission on April 18, 2001 (66 FR 19994).

The Board is comprised of the following administrative judges:

Administrative Judge Thomas S. Moore, Chairman,Atomic Safety and Licensing Board Panel,U.S. Nuclear Regulatory Commission,Washington, D.C. 20555-0001

Administrative Judge Charles N. Kelber,Atomic Safety and Licensing Board Panel,U.S. Nuclear Regulatory Commission,Washington, DC 20555-0001

Administrative Judge Peter S. Lam,Atomic Safety and Licensing Board Panel,U.S. Nuclear Regulatory Commission,Washington, D.C. 20555-0001

All correspondence, documents, and other materials shall be filed with the Administrative Judges in accordance with 10 CFR 2.1203.¹

¹ Copies of this Licensing Board establishment notice were sent this date by internet e-mail or facsimile transmission to counsel or representatives for (1) applicants Duke, Cogema, and Stone & Webster; (2) petitioners GANE, EI, Blue Ridge, and Charles and Edna Foster; and (3) the NRC staff.

Issued at Rockville, Maryland, this 15th day of June 2001.
G. Paul Bollwerk III,
Chief Administrative Judge, Atomic Safety and Licensing Board Panel.

[FR Doc. 01-15633 Filed 6-20-01; 8:45 am]

BILLING CODE 7590-01-P